DEPARTMENT OF THE INTERIOR

Bureau of Land Management

[LLOR93000 L61400000.HN0000 LXLAH9990000 19X; OMB Control Number 1004-0168]

Agency Information Collection Activities; Submission to the Office of Management and Budget for Review and Approval; Tramroads and Logging Roads

AGENCY: Bureau of Land Management, Interior.

ACTION: Notice of information collection; request for comment.

SUMMARY: In accordance with the Paperwork Reduction Act of 1995, the Bureau of Land Management (BLM) is proposing to renew an information collection with revisions.

DATES: Interested persons are invited to submit comments on or before March 26, 2020.

ADDRESSES: Send written comments on this information collection request (ICR) to the Office of Management and Budget's Desk Officer for the Department of the Interior by email at OIRA_Submission@omb.eop.gov; or via facsimile to (202) 395-5806. Please provide a copy of your comments to the BLM at U.S. Department of the Interior, Bureau of Land Management, 1849 C Street NW, Room 2134LM, Washington, DC 20240, Attention: Chandra Little; or by email to cclittle@blm.gov. Please reference OMB Control Number 1004-0168 in the subject line of your comments.

FOR FURTHER INFORMATION CONTACT: Jessica LeRoy at 541-471-6659. Persons who use a telecommunication device for the deaf may call the Federal Relay Service at 1-800-877-8339, to leave a message for Ms. LeRoy.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 16, 2019 (84 FR 48638). No comments were received.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

The following information pertains to this request:

Abstract: The BLM Oregon State Office has authority under the Oregon and California Revested Lands Sustained Yield Management Act of 1937 (43 U.S.C. 2601 and 2602) and subchapter V of the Federal Land Policy and Management Act (43 U.S.C. 1761-1771) to grant rights-of-way to private landowners to transport their timber over roads controlled by the BLM. This information collection enables the BLM to calculate and collect appropriate fees for this use of public lands. In response to respondents' suggestions, the BLM is requesting authorization to revise Form OR-2812-6 as follows in order to improve the form's clarity:

1. The BLM proposes to add a comment section so that respondents would not have to put comments on a separate page.

2. The BLM also proposes to add a column for “operator” maintenance, so that respondents would not have to include this information on a separate page.

Title: Tramroads and Logging Roads (43 CFR part 2810).

OMB Control Number: 1004-0168.

Forms: Form OR-2812-6, Report of Road Use.

Type of Review: Revision of a currently approved collection.

Description of Respondents: Private landowners who hold rights-of-way for the use of BLM-controlled roads in western Oregon.

Total Estimated Number of Annual Respondents: 1,088.

Total Estimated Number of Annual Responses: 1,088.

Estimated Completion Time per Response: 8.

Total Estimated Number of Annual Burden Hours: 8,704.

Respondent's Obligation: Required to obtain or retain a benefit.

Frequency of Collection: Annually, biannually, quarterly, or monthly, depending on the terms of the pertinent right-of-way.

Total Estimated Annual Non-Hour Costs: None.

An agency may not conduct or sponsor and a person is not required to respond to a collection of information unless it displays a currently valid OMB control number. The authority for this action is the Paperwork Reduction Act of 1995 (44 U.S.C. 3501 et seq.).

Chandra Little,
Bureau of Land Management, Acting Information Collection Clearance Officer.

[FR Doc. 2020-03733 Filed 2-24-20; 8:45 am]

BILLING CODE 4310-84-P